DEPARTMENT OF HEALTH AND HUMAN SERVICES

Centers for Disease Control and Prevention

Disease, Disability, and Injury Prevention and Control Special Emphasis Panel: Cooperative Agreement to the Medical Research Council of South Africa for TB Control and HIV Prevention, Care and Treatment Activities, Program Announcement (PA) Number PS07-006

In accordance with section 10(a)(2) of the Federal Advisory Committee Act (Pub. L. 92-463), the Centers for Disease Control and Prevention (CDC) announces a meeting of the aforementioned Special Emphasis Panel.

Time and Date: 1 p.m.-2:30 p.m., May 11, 2007 (Closed).

Place: Teleconference. Corporate Square, Building 8, Conference Room 6B.

Status: The meeting will be closed to the public in accordance with provisions set forth in section 552b(c)(4) and (6), Title 5 U.S.C., and the Determination of the Director, Management Analysis and Services Office, CDC, pursuant to Pub. L. 92-463.

Matters To Be Discussed: The meeting will include the review, discussion, and evaluation of a research application in response to PA PS07-006, “Cooperative Agreement to the Medical Research Council of South Africa for TB Control and HIV Prevention, Care and Treatment Activities.”

For Further Information Contact: J. Felix Rogers, Scientific Review Administrator, Centers for Disease Control and Prevention, 1600 Clifton Road, NE., MS E05, Atlanta, GA 30333, telephone 404.639.6101.

The Director, Management Analysis and Services Office, has been delegated the authority to sign Federal Register notices pertaining to announcements of meetings and other committee management activities, for both CDC and the Agency for Toxic Substances and Disease Registry.

Dated: March 8, 2007.
Elaine L. Baker,
Acting Director, Management Analysis and Services Office, Centers for Disease Control and Prevention.

[FR Doc. E7-4743 Filed 3-14-07; 8:45 am]

BILLING CODE 4163-18-P